DEPARTMENT OF EDUCATION

[CFDA No.: 84.011]

Title I, Part C—Education of Migratory Children

ACTION: Notice of proposed requirements and minimum data elements for a electronic system of records transfer and request for comment.

SUMMARY: We announce proposed requirements for the minimum data elements that a State must collect and maintain for the purpose of electronically exchanging, among the States and their schools and local educational agencies, educational and health information for all migratory students.

DATES: Please send your comments on or before Monday, July 8, 2002.

ADDRESSES: Please address your comments to Alex Goniprow, Office of Elementary and Secondary Education, U.S. Department of Education, using one of the following methods:

1. Internet. We encourage you to send your comments through the Internet to the following address: alex.goniprow@ed.gov. You should use the term Minimum Data Elements in the subject line of your electronic message.

2. Fax Machine. You may also submit your comments by fax at (202) 205-0089.

3. Surface Mail. You may submit your comments via surface mail addressed to: Alex Goniprow, Office of Elementary and Secondary Education, U.S. Department of Education, 400 Maryland Avenue, SW., room 3E333, Washington, DC 20202-6400.

FOR FURTHER INFORMATION CONTACT: Alex Goniprow, Office of Elementary and Secondary Education, U.S. Department of Education, 400 Maryland Avenue, SW., room 3E333, Washington, DC 20202-6400. Telephone (202) 260-1205.

Individuals with disabilities may obtain this document in an alternative format (e.g., Braille, large print, audiotape, or computer diskette) on request to the contact person identified in the preceding paragraph.

SUPPLEMENTARY INFORMATION: The children of migratory agricultural workers and migratory fishers present unique challenges for educators and our Nation's schools. Migratory workers travel from community to community in search of temporary and seasonal work. Given the nature of their employment, migratory workers and their families often settle in a single community for a short period of time. One consequence of this lifestyle and mobility is that the children of migratory workers often enter new schools without adequate, and in many cases any, documentation of their educational and health history.

At present, no national system exists to support the timely transfer of migratory students' educational and health information. For school-aged migratory children, this lack of educational and health information may cause delays in receiving needed services, lead to inappropriate classroom and course placements, complicate the accrual of high school course credits, and result in duplicated services, such as multiple assessments and immunizations.

It is widely believed that educators could better serve migratory children if basic information on prior schooling was more readily available. Most States currently have electronic data bases that include migrant student records. Yet, these data bases are not able to share information on a national basis, nor do they contain even all of the basic information that schools need to make the best decisions about the education of migratory children.

Background

Section 1308 of the Elementary and Secondary Education Act of 1965, as amended by the No Child Left Behind Act of 2001 (NCLB), Public Law 107-110, substantially revises requirements in Title I, Part C for the Migrant Education Program (MEP) that govern the interstate transfer of migrant student education and health records. In particular, section 1308(b)(1) requires the Secretary to assist the States in developing effective methods for the electronic interstate transfer of migrant student records. Section 1308(b)(2) requires the Secretary, in consultation with the States, to ensure that migrant student record systems used by the States are linked so that States may electronically exchange health and educational information regarding all migratory students. This provision also requires the Secretary to—

1. Consult with States regarding (a) The minimum data elements that each State receiving MEP funds would have to collect and maintain, and (b) the requirements the Department would establish for immediate electronic access to this information, and then

2. Publish a notice in the Federal Register seeking public comment on these proposed data elements, and proposed requirements States would meet for immediate access to these data elements.

The remainder of this notice describes the Department's proposal for required data elements and procedures that States would implement for immediate electronic access of an interstate system of records transfer. As explained in the following discussion, the proposal was developed by a group of local and State practitioners with the support and encouragement of the Department's Office of Migrant Education (OME). While the proposal reflects our best thinking to date on what the requirements of this electronic data system would be, we want to receive the reactions of State and local educators, including MEP staff and administrators, as well as the general public, to this proposal, as well as specific recommendations for how it can be improved. Please refer to the “Invitation to Comment” section of this notice for instructions on how to provide your comments.

Finally we note that ESEA section 9531 expressly exempts section 1308(b) from the general prohibition that nothing in the ESEA “shall be construed to authorize the development of a nationwide database of personally identifiable information on individuals involved in studies or other collections of data” under the ESEA. In addition, the Department will not have access to the personally identifiable migrant student education and health records contained in the database that is the subject of ESEA section 1308(b) and this notice.

Development of This Proposal

In the spring of 1999, over a year before enactment of NCLB, the Department began consulting with States on the development of minimum data elements that should be included in any subsequently created, electronic migrant student records system. As a first step, it asked a group of State MEP program directors to develop a set of principles to guide the effort to improve access to migrant student records. The group recommended a set of nine guiding principles, which all State MEP directors adopted in June 1999.

The Department then asked a group of migrant education practitioners to develop and recommend a set of minimum data elements that, based on these principles, seemed essential to exchanging migratory students' education and health data. Focusing on interstate secondary migratory students, this working group first established the key users and uses of migrant student data. It identified guidance counselors, school registrars, and migrant education specialists as the primary users of these data, and concluded that they needed these data for purposes of “enrollment,” “placement,” and “academic counseling.” In particular, these individuals would need the data to ensure:

(1) Timely and efficient enrollment of migratory students in a school in the community in which the children reside;

(2) Proper placement of migratory students into courses and programs at the appropriate grade level; and

(3) Provision of academic counseling that helps migratory students to complete courses and accrue credits that they need to graduate from high school.

Over the course of its meetings between April and September 2000, the working group then developed a preliminary set of minimum data elements needed to accomplish these three tasks. To the extent possible, the working group aligned these preliminary data elements and definitions with terms and definitions recommended in the “Student Data Handbook for Elementary, Secondary, and Early Childhood Education,” which the Department's National Center for Education Statistics (NCES) had developed.

Finally, the working group proposed a set of deadlines for the submission and entry of the minimum data elements into State electronic migrant student records systems to ensure timely access to the data.

OME distributed and discussed the group's list of preliminary minimum data elements at a February 2002 meeting of MEP State directors. It also solicited questions and feedback on the proposed minimum data elements and timely access requirements during two sessions at the National Migrant Education Conference on April 8 and 9, 2002.

While the working group has focused on minimum data elements needed primarily to support the education of interstate secondary migratory children, we believe that these minimum data elements apply equally to the needs of all other migratory children, i.e., intrastate secondary migrant children, pre-school migratory children, elementary grade migratory students, and migratory youth who are not currently enrolled in school.

Proposed Minimum Data Elements for the Title I, Part C Migrant Education Program

The appendix to this notice contains the Department's proposal for the minimum data elements that all States would be required to collect and maintain for the purpose of electronically exchanging, among the States, educational and health information for all migratory students. The appendix reflects our review of the working group's proposal and our consultations to date with State MEP directors. Although data elements are listed once, a migrant student record would use a number of these elements on multiple occasions (e.g., “course title” will be used for each course in which a migratory student is enrolled).

Proposed Requirements for Immediate Electronic Access to the Minimum Data Elements

Following up on the working group's recommendation, the Department would require each State receiving Title I, Part C funds to maintain the minimum data elements in an electronic data base of student records. The Department will develop the technical specifications that these data bases and student data would need to meet in order to permit the exchange of migrant student records at a later date.

The Department proposes that, within four days of each migratory child's enrollment in a migrant education program or project, or enrollment in a school, whichever comes first, all States, would have to submit and enter into their electronic data base the data elements for that child that are used for “enrollment” and “placement” purposes. They could do so either on their own, or operating through local educational agencies or other local operating agencies. States also would be required to submit and enter data used for “academic counseling” purposes into their electronic data base within four days of a child's withdrawal from school or migrant education program or project, whichever comes first. The appendix provides information that explains which data elements would be needed for each purpose.

Enrollment and placement information must be available to schools who are receiving migratory children upon their arrival at the school door so that counselors, school registrars, and migrant education specialists can use the data to take appropriate actions and make informed decisions. Consequently, we believe that timelines for data submission and data entry like those we have proposed are absolutely critical to the successful exchange of migrant students records.

Invitation To Comment

The Secretary invites interested members of the public to comment on this proposal for: (1) The minimum data elements to be collected and maintained in the migrant student records systems used by the States, and (2) the requirements for immediate electronic access to such information.

We are interested in receiving public comment on, and reaction to, all aspects of these proposed requirements. However, in formulating your comments, we ask that you pay particular attention to the following questions:

1. Will the collection and timely sharing of the minimum data elements significantly improve enrollment, placement, and graduation support services to students? If so, how?

2. Is the set of recommended minimum data elements the “right” set of data elements for the three purposes (i.e., enrollment, placement, and graduation support)? Are any of the proposed elements unnecessary? Should any additional elements be added?

3. What will be the burden of collecting the data? Will the value of sharing the data outweigh the burden of data collection?

4. What are your suggestions for ensuring the use of the data elements by counselors and migrant specialists? What forces or factors will work to support the use of the minimum data elements? What forces or factors will hinder their use?

5. Are there ways to create linkages of migrant student record data systems that will ensure that the right information on an individual migratory student is available to school and LEA staff without assigning to each migratory student a unique migrant student record number?

6. What are your suggestions for increasing State compliance with requirements for collecting and maintaining up-to-date data elements? What are the forces and factors that will work to support the collection and maintenance of the data? What are the forces and factors that will hinder the collection and maintenance of the data?

After we have reviewed the comments received in response to this notice, we will decide what, if any, further discussion with State and local practitioners is necessary to improve these data system requirements. Before the Department issues any final requirements that govern the collection and maintenance of these data elements, the Department will (1) provide an opportunity for further public comment, and (2) advise all States of the technical specifications for the collection and maintenance of student data that their migrant student record systems will need to meet.

During and after the comment period, you may inspect all public comments about these proposed regulations in room 3E333, 400 Maryland Avenue, SW., Washington, DC 20202-6400 between the hours of 9 a.m. and 4 p.m., Eastern time, Monday through Friday of each week except Federal holidays.

Electronic Access to This Document

You may view this document, as well as all other Department of Education documents published in the Federal Register, in text or Adobe Portable Document Format (PDF) on the Internet at the following site: www.ed.gov/legislation/FedRegister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html.

Program Authority: 20 U.S.C. 6398.

Dated: May 22, 2002.
Susan B. Neuman,
Assistant Secretary for Elementary and, Secondary Education.

Appendix A: Minimum Data Elements

The following table presents the proposed requirements for the minimum data elements that a State shall collect and maintain for the purpose of electronically exchanging, among the States, educational and health information for all migratory students.

The table lists the data elements by: (1) a data element identification number, (2) a code that identifies the primary user function(s) for which the data element is required, (3) the name of the data element, and (4) a data element definition.

In regard to the primary user functions for which a data element is required, the letter “E” indicates that the data element is required to help guidance counselors, school registrars, or migrant education specialists with the timely and efficient enrollment of migratory students in a school in the community in which the children currently reside. The letter “P” indicates that the data element is required to help guidance counselors or migrant education specialists with the proper placement of migratory students into courses and/or programs at the appropriate grade level. The letter “G” indicates that the data element is required to help guidance counselors or migrant education specialists with the provision of academic counseling that supports the completion of courses and the accrual of credits needed for graduation.

In addition, the data elements are grouped into one of five categories of data: (1) data elements that describe a student, (2) data elements that describe a school or project, (3) data elements that describe the student's graduation plan, (4) data elements that describe a student's course history, and (5) data elements that describe a student's assessment information.

Finally, although the data elements are listed once, a number of the data elements will be used for multiple entries in a migrant student record (e.g., “course title” will be used for each course in which a migratory student is enrolled).

Minimum Data Elements
No. | Use(s) | Data element | Definition
Student Information
1 | E | National Student Identification Number | A unique national identification number assigned to a student.
2 | E | State Student Identification Number | An alternate identification number assigned to a student by a State.
3 | E | Last Name ¹ | Student's legal last name (paternal).
4 | E | Last Name ² | If appropriate, student's legal last name (maternal). [Note: Provides an option for a hyphenated or double last name.]
5 | E | First Name | A name given to a student at birth, baptism, or during another naming ceremony, or through legal change.
6 | E | Middle Name | A secondary name given to a student at birth, baptism, or during another naming ceremony, or through legal change.
7 | E | Generation | An appendage, if any, used to denote a student's generation in his family (e.g., Jr., Sr., III).
8 | E | Gender | A student's gender.
|  |  | 01 Female.
|  |  | 02 Male.
9 | E | Birth Date | The month, day, and year on which a student was born.
10 | E | Birth Certificate Flag | The evidence by which a student's date of birth is confirmed.
|  |  | 01 Birth certificate—A written statement or form issued by an Office of Vital Statistics verifying the name and birth date of the child as reported by the physician attending at the birth.
|  |  | 02 Other official document (i.e., baptismal or church certificate, physician/hospital certificate, passport, previously verified school record, State-issued ID, driver's license).
|  |  | 03 Self Report—Parent or student reports age, birth date, and place of birth.
11 | E | Birth City | The name of the city in which the student was born.
12 | E | Birth State | The postal abbreviation code for a State (within the United States), Outlying Area, or State (in another country) in which a student was born.
13 | E | Birth Country | The name of the country in which a student was born.
14 | E | Birth/Legal Parent ¹ Last Name | The last/surname of the natural or adoptive male parent having legal responsibility for a student.
15 | E | Birth/Legal Parent ¹ First Name | The first name of the natural male parent having legal responsibility for a student.
16 | E | Birth/Legal Parent ² Last Name | The last/surname of the natural or adoptive female parent having legal responsibility for a student.
17 | E | Birth/Legal Parent2 First Name | The first name of the natural or adoptive female parent having legal responsibility for a student.
18 | E | Current Parent/ Guardian Last Name | The last/surname of the adult serving as the student's local guardian. [Note: Provides an option for a hyphenated or double last name.]
19 | E | Current Parent/ Guardian First Name | The first name of the adult serving as the student's local guardian.
20 | P, G | Grade Level | The grade level in which a school/project enrolls a student.
|  |  | 01 Ungraded.
|  |  | 02 Pre-school.
|  |  | 03 Kindergarten.
|  |  | 04 Grade 1
|  |  | 05 Grade 2
|  |  | 06 Grade 3
|  |  | 07 Grade 4
|  |  | 08 Grade 5
|  |  | 09 Grade 6
|  |  | 010 Grade 7
|  |  | 011 Grade 8
|  |  | 012 Grade 9
|  |  | 013 Grade 10
|  |  | 014 Grade 11
|  |  | 015 Grade 12
|  |  | 016 Out-of-School
21 | E, P, G | Withdrawal Date | The month, day, year on which a student withdrew from a school or project.
22 | E | Ed Alert Flag | Alert for a special need/educational condition linked with a contact person.
23 | E | Ed Alert Contact | The full, legally accepted, proper name of the contact person.
24 | E | Ed Alert Phone | The telephone number—for a telephone—including the area and extension, if applicable.
25 | E | Med Alert | Alert for a medical/health condition
26 | E | Med Alert Date | Month, day, and year the alert was issued
27 | E | Med Alert Contact | The full, legally accepted, proper name of the contact person.
28 | E | Med Alert Phone | The telephone number—for a telephone—including the area and extension, if applicable.
29 | E | Immunization Date | The month, day, and year on which a student receives an immunization.
30 | E | Immunization Type | The name of immunization that a student has received.
31 |  | QAD (Qualifying Arrival Date) | The month, day, and year on which the family unit or the student (where the student is the worker) arrived at the place where the qualifying work was sought.
32 |  | QAD From City | The name of the city in which the previous school district is located.
33 |  | QAD From State | The postal abbreviation code for a State (within the United States) or Outlying Area in which the previous school district is located.
34 |  | QAD From Country | The abbreviation code for a country (other than the US) area in which the previous school district is located.
35 |  | QAD To City | The name of the city in which the new school district is located.
36 |  | QAD To State | The postal abbreviation code for a State (within the United States) or Outlying Area in which the new school district is located.
37 |  | Residency Date | The month, day, and year on which the family unit or the student (where the student is the worker) establishes residency in a school district within a State.
38 |  | Termination Date | The month, day, and year on which the student is no longer eligible for the Migrant Education Program.
39 |  | Terminating Flag | The reason for the end of student eligibility.
|  |  | 01 Non-migrant status, eligibility expired
|  |  | 02 Graduated.
|  |  | 03 GED.
|  |  | 04 Dropout.
|  |  | 05 Deceased.
School/Project Information
40 | E, P, G | School/Facility Identification Code | A unique national code assigned to each school, site, or facility providing educational and/or educationally-related services.
41 | E, P, G | School Name | The full legally or popularly accepted name of a school (or project providing educational and/or educational-related services).
42 | E, P, G | Address1 | Line 1 of the mailing address. The street number and name or post office box number of a school's address.
43 | E, P, G | Address2 | Line 2 of the mailing address. The building, office, department, room, suite number of a school's address.
44 | E, P, G | Address3 | Line 3 of the mailing address.
45 | E, P, G | City | The name of the city in which a school is located.
46 | E, P, G | District | The full legally or popularly accepted name of a local educational agency (i.e., school district or local operating agency).
47 | E, P | State | The postal abbreviation code for a State (within the United States) or Outlying Area in which a school or other facility is located.
48 | E, P, G | Zip | The five or nine digit zip code portion of a school or other facility's address.
49 | G | Contact Name | The full, legally accepted, proper name of the contact person.
50 | G | Contact Title/Position | The common title or job position of the contact person (i.e., Principal, Guidance Counselor, Federal Program Coordinator, Migrant Specialist, etc).
51 | E, G | Phone | The number—for a telephone—including the area code and extension, if applicable. Allow for an optional alternate phone number.
52 | E, G | Fax | The number—for a facsimile machine—including the area code and extension, if applicable. Allow for an optional alternate fax number.
53 | E | Email | The electronic mail (email) address of the organization or contact person.
54 | E, P, G | Enrollment Date | The month, day, and year on which a student enrolls in a school, project, or State and is eligible to receive instructional or support services during a given session.
55 | P | Enrollment Type | The type of school/migrant education project in which instruction and/or support services are provided.
|  |  | 01 Regular School.
|  |  | 02 Regular Term MEP-Funded Supplemental Program.
|  |  | 03 Summer/Intersession MEP-Funded Project.
|  |  | 04 Year Round MEP-funded Project.
|  |  | 05 Residency Only.
56 | P, G | Designated School for Graduation Flag | An indicator that designates the school or facility from which a student expects to graduate and is linked with associated school or facility identification fields (i.e., district, city, state, zip code). Only one school may be designated for graduation at any one point in time.
Graduation Plan Information (Secondary Students Only)
57 | G | Graduation Year | The year the student is projected to graduate from high school. [Provided by Designated School of Graduation].
58 | G | Type of Credential | The type of credential that the student expects to receive in recognition of his/her completion of curricular requirements. . [Provided by Designated School of Graduation].
|  |  | 01 Regular diploma.
|  |  | 02 Certificate of attendance/completion.
|  |  | 03 General Educational Development (GED) credential.
|  |  | 04 State-specific diploma (e.g., New York Regents, Texas Minimum Program, etc.)
59 | G | Subject Area Requirements | Number of credits (Carnegie units) required in individual subject areas for graduation in the State from which the student is projected to graduate.
60 | G | Test | The name of the test the student will have to pass to graduate.
61 | P,G | Subject Area | The name of a subject area (e.g., History, English).
Course History Information (Secondary Students Only)
62 | P,G | Course Title | The name of a course (e.g., Algebra III, American History, Art I, English III, English-10).
63 | G | Course Type | An indication of the general nature and difficulty of instruction provided throughout a course.
|  |  | 01 Regular (Default)—A course providing instruction (in a given subject matter area) that focuses primarily on general concepts for the appropriate grade level.
|  |  | 02 Honors—An advanced level course designed for students who have earned honors status according to educational requirements.
|  |  | 03 Pre-Advanced—A course in preparation to admission to an AP Program.
|  | Course Type (continued) | 04 Advanced Placement—An advanced, college-level course designed for students who achieve specific level of academic performance. Upon successful completion of the course and a standardized Advanced Placement examination, a student may receive college credit.
|  |  | 05 International Baccalaureate—A program of study, sponsored and designed by International Baccalaureate Organization, that leads to examinations and meets the needs of secondary students between the ages of 16 and 19 years.
|  |  | 06 Accepted as a high school equivalent—A secondary-level course offered at an education institution other than a secondary school (such as adult learning center or community college) or through correspondence or distance learning.
|  |  | 07 Not Applicable.
|  |  | 07 Not Applicable.
64 | G | Course Year | Calendar year in which the course was taken.
65 | P, G | Course Section | The prescribed duration of course taken.
|  |  | 01 Full year.
|  |  | 02 Section A-One of two equal segments into which the course is divided.
|  |  | 03 Section B-One of two equal segments into which the course is divided.
66 | P, G | Term Type | The prescribed span of time that a course is provided, and in which, students are under the direction and guidance of teachers and/or an educational institution.
|  |  | 01 Full year.
|  |  | 02 Semester—A designation for the segment of a school year that is divided into two equal parts.
|  |  | 03 Trimester—A designation for the segment of a school year that is divided into three equal parts.
|  | Term Type (continued) | 04 Quarter—A designation for the segment of a school year that is divided into four equal parts.
|  |  | 05 Quinmester—A designation for the segment of a school year that is divided into five equal parts.
67 | P, G | Grade-to-date | For courses that have NOT been completed (or credit granted), a numerical grade (percentage) of student performance for the grade-to-date that the student has completed at the time of withdrawal.
68 | P | Clock Hours | For courses that have NOT been completed (or credit granted), the number of clock hours to date that the student has completed.
69 | P | Final Grade | For courses that have NOT had credit granted, a final indicator of student performance in a class at the time of withdrawal as submitted by the instructor.
70 | P | Credits Granted | The credits granted in Carnegie units for a given course or a section of a course (e.g., 1.0, .50, .33, .25, .20).
Assessment Information
71 | G | Assessment Name | The title or description, including a form number, if any, that identifies a particular assessment.
72 | G | Assessment Type | The category of an assessment based on format and content.
|  |  | 01 Achievement Test/State Assessment—An assessment to measure a student's present level of knowledge, skill, or competence in a specific area or subject.
|  |  | 02 Advanced placement test—An assessment to measure the achievement of a student in a subject matter area, taught during high school, which may qualify him or her to bypass the usual initial college class in this area and begin his or her college work in the area at a more advanced level and possibly with college credit.
|  | Assessment Type (continued) | 03 Language proficiency test—An assessment used to measure a student's level of proficiency (i.e., speaking, writing, reading, and listening) in either a native language or an acquired language.
|  |  | 04 Exit Exam.
|  |  | 05 GED.
|  |  | 06 Special Education Assessment.
|  |  | 07 Early Childhood Development Assessment.
|  |  | Other.
73 | G | Assessment Date | The month and year on which an assessment is administered.
74 | G | Assessment Result | A score or statistical expression of the performance of a student on an assessment.
75 | G | Type of Result | The metric in which results are presented.
|  |  | 01 Proficiency level.
|  |  | 02 Percentile rank.
|  |  | 03 Pass/Fail (if failed enter numerical score).
|  |  | 04 Normal curve equivalent.
|  |  | 05 Sections that have been successfully completed (e.g., GED).

[FR Doc. 02-13275 Filed 5-24-02; 8:45 am]

BILLING CODE 4000-01-P